DEPARTMENT OF DEFENSE

Department of the Navy

Notice of Availability of Government-Owned Inventions; Available for Licensing

AGENCY: Department of the Navy, DoD.

ACTION: Notice.

SUMMARY: The invention listed below is assigned to the United States (U.S.) Government as represented by the Secretary of the Navy and is available for licensing by the Department of the Navy. U.S. Patent Application Number 15/474,374 entitled “Synergistic Metal Polycarboxylate Corrosion Inhibitors”, filed on 30 May 2017 and related Patent Cooperation Treaty filing PCT/US17/63347, filed 28 November 2017, Navy Case PAX236.

ADDRESSES: Request for data, samples and inventor interviews should be directed to Mr. Dan Swanson, 406-994-7736, dss@montana.edu, TechLink, 2310 University Way, Building 2-2, Bozeman, MT 59715. TechLink is a Department of Defense Partnership Intermediary under 15 U.S.C. 3715.

DATES: Request for data, samples and inventor interviews should be made prior to 05 July 2018 for potential licensees interested in international licensing rights.

Request for data, samples and inventor interview should be made prior to 01 September 2018 for potential licensees interested in only U.S. licensing rights.

FOR FURTHER INFORMATION CONTACT: Michelle Miedzinski, 301-342-1133, Naval Air Warfare Center Aircraft Division, 22347 Cedar Point Road, Building 2185, Box 62, Room 2160, Patuxent River, Maryland 20670, michelle.miedzinski@navy.mil.

SUPPLEMENTARY INFORMATION: The U.S. Navy intends to move expeditiously to license this invention internationally. Licensing application packages are available from TechLink and all applications and commercialization plans for international licensing rights must be returned to TechLink by 15 July 2018. TechLink will turn over all completed applications to the U.S. Navy for evaluation by 01 August 2018, with final negotiations and awards occurring during the months of August and September, 2018.

The U.S. Navy also intends to license this invention expeditiously inside the U.S. Licensing application packages are available from TechLink and all applications and commercialization plans for U.S. licensing rights must be returned to TechLink by 01 September 2018. TechLink will turn over all completed applications to the U.S. Navy for evaluation by 01 October 2018, with final negotiations and awards occurring during the months of October and November, 2018.

The U.S. Navy will consider request for nonexclusive, and partially exclusive licenses in the U.S., and may prefer to grant an exclusive license outside the U.S. to a company both capable of broad commercialization and the ability to prosecute and maintain national stage filings in most territories outside the U.S. The Navy intends that licensees interested in a license in territories outside the U.S. will assume foreign prosecution and pay the cost of such prosecution.

The Navy, in its decisions concerning the granting of licenses, will give special consideration to existing licensee's, small business firms, and consortia involving small business firms. The Navy intends to ensure that its licensed invention is broadly commercialized throughout the U.S.

(Authority: 35 U.S.C. 207, 37 CFR part 404)

Dated: June 14, 2018.
E.K. Baldini,
Lieutenant Commander, Judge Advocate General's Corps, U.S. Navy, Federal Register Liaison Officer.

[FR Doc. 2018-13215 Filed 6-19-18; 8:45 am]

BILLING CODE 3810-FF-P